DEPARTMENT OF COMMERCE

International Trade Administration

[A-570-977]

High Pressure Steel Cylinders From the People's Republic of China: Postponement of Preliminary Determination of Antidumping Duty Investigation

AGENCY: Import Administration, International Trade Administration, Department of Commerce.

DATES: Effective Date: September 27, 2011.

FOR FURTHER INFORMATION CONTACT: Emeka Chukwudebe or Alan Ray, AD/CVD Operations, Office 9, Import Administration, International Trade Administration, U.S. Department of Commerce, 14th Street and Constitution Avenue, NW., Washington, DC 20230; telephone: (202) 482-0219 or (202) 482-5403, respectively.

SUPPLEMENTARY INFORMATION:

Background

On May 31, 2011, the Department of Commerce (“Department”) initiated an antidumping duty investigation on high pressure steel cylinders from the People's Republic of China.¹ The Initiation Notice stated that, in accordance with section 733(b)(1)(A) of the Tariff Act of 1930, as amended (“Act”), unless postponed, the Department would issue its preliminary determination no later than 140 days after the date of issuance of the initiation. The preliminary determination for this investigation is currently due no later than October 18, 2011.

¹ See High Pressure Steel Cylinders from the People's Republic of China: Initiation of Antidumping Duty Investigation, 76 FR 33213 (June 8, 2011) (“Initiation Notice”).

Postponement of Preliminary Determination

Section 733(c)(1)(A) of the Act and 19 CFR 351.205(e) state that if the petitioner makes a timely request for an extension, the Department may postpone the period for making a preliminary determination until no later than the 190th day after the date on which the administering authority initiated the investigation. On September 8, 2011, Norris Cylinder Company (“Petitioner”) made a timely request, pursuant to 19 CFR 351.205(e), for a postponement of the preliminary determination to allow the Department and Petitioner adequate time to thoroughly review and analyze the information submitted by the company selected for individual examination. For the reason identified above and because there are no compelling reasons to deny the request, pursuant to section 733(c)(1)(A) of the Act, the Department is postponing the deadline for the preliminary determination until the 190th day after the day on which the investigation was initiated. Accordingly, the deadline for completion of the preliminary determination is now no later than Wednesday, December 7, 2011.

This notice is issued and published pursuant to section 733(c)(2) of the Act and 19 CFR 351.205(f)(1).

Dated: September 20, 2011.
Christian Marsh,
Acting Deputy Assistant Secretary for Import Administration.

[FR Doc. 2011-24807 Filed 9-26-11; 8:45 am]

BILLING CODE 3510-DS-P